DEPARTMENT OF COMMERCE

International Trade Administration

[A-437-601]

Tapered Roller Bearings and Parts Thereof, Finished and Unfinished, From Hungary: Recission of Antidumping Duty Administrative Review

AGENCY: Import Administration, International Trade Administration, Department of Commerce.

ACTION: Notice of recission of antidumping duty administrative review.

SUMMARY: The Department of Commerce (the Department) is rescinding the June 1, 1998 through May 31, 1999 antidumping duty administrative review of tapered roller bearings and parts thereof, finished and unfinished, from Hungary.

EFFECTIVE DATE: June 5, 2000.

FOR FURTHER INFORMATION CONTACT: Elfi Blum at (202) 482-0197, Import Administration, International Trade Administration, U.S. Department of Commerce, 14th Street and Constitution Ave, NW, Washington, DC 20230.

The Applicable Statute and Regulations

Unless otherwise stated, all citations to the statute are references to the provisions effective January 1, 1995, the effective date of the amendments made to the Tariff Act of 1930 (the Act) by the Uruguay Round Agreements Act. In addition, unless otherwise indicated, all citations to the Department's regulations are to 19 CFR part 351 (1998).

Scope of the Review

This antidumping review covers tapered roller bearings and parts thereof, finished and unfinished (TRBs), from the Republic of Hungary. The merchandise under review is currently classified under subheadings 8482.20.00, 8482.91.00, 8482.99.15, 8482.99.45, 8483.20.40, 8483.20.80, 8483.30.80, 8483.90.20, 8483.90.30, and 8483.90.80 of the Harmonized Tariff Schedule of the United States (HTSUS). Although the HTSUS subheading is provided for convenience and customs purposes, the written description of the scope of this review is dispositive.

Recission of 1998-99 Antidumping Duty Administrative Review

On July 29, 1999, in response to a request by Daewoo-MGM Rt., the Department published a Notice of Initiation of Antidumping and Countervailing Administrative Reviews (64 FR 41075). Daewoo-MGM Rt. was the only party which requested a review. On March 20, 2000, Daewoo-MGM Rt. withdrew its request for review. We are therefore rescinding this review in its entirety in accordance with 19 U.S.C. 1675(a)(1) of the Act and § 351.213(d)(1) of our regulations.

The recission of this review does not affect the reclassification of the Republic of Hungary to market economy status for antidumping purposes (see Decision Memorandum from Joseph A. Spetrini to Robert S. LaRussa on Market vs. Non-Market Economy Analysis of the Republic of Hungary, dated February 23, 2000). This notice is published in accordance with 19 U.S.C. 1677(f) and § 351.213(d)(4) of our regulations.

Dated: May 26, 2000.
Troy H. Cribb,
Acting Assistant Secretary for Import Administration.

[FR Doc. 00-14021 Filed 6-2-00; 8:45 am]

BILLING CODE 3510-DS-P